DEPARTMENT OF COMMERCE

International Trade Administration

[A-580-831]

Stainless Steel Plate in Coils from South Korea: Correction to Final Results of the Expedited Sunset Review of the Antidumping Duty Order

AGENCY: Import Administration, International Trade Administration, Department of Commerce.

DATES: Effective Date: November 2, 2010.

FOR FURTHER INFORMATION CONTACT: Hector Rodriguez or Elizabeth Eastwood, AD/CVD Operations, Office 2, Import Administration, International Trade Administration, U.S. Department of Commerce, 14th Street and Constitution Avenue, NW., Washington, DC 20230; telephone: (202) 482-0629 and (202) 482-3874, respectively.

SUPPLEMENTARY INFORMATION:

Correction

On October 7, 2010, the Department of Commerce (the Department) published in the Federal Register the following notice: Certain Stainless Steel Sheet and Strip in Coils From Germany, Japan, the Republic of Korea, and Taiwan: Final Results of the Expedited Second Sunset Reviews of the Antidumping Duty Orders, 75 FR 62014 (Oct. 7, 2010) (Final Sunset Notice). After the publication of this notice in the Federal Register, we identified an inadvertent error in the Final Sunset Notice. The Department made an error in the “Final Results of Reviews” section of the notice by inadvertently including an incorrect weighted-average margin for the South Korean respondent Pohang Iron & Steel Co., Ltd. (POSCO), as well as the “all others” rate for South Korea. Specifically, the weighted-average margin for POSCO and the “all others” rate for South Korea, listed as 16.26 percent, should have been listed as 6.08 percent pursuant to implementation of the findings of the World Trade Organization Panel in United States—Anti-Dumping Measures on Stainless Steel Plate in Coils and Stainless Steel Sheet and Strip From Korea. See Notice of Amendment of Final Determinations of Sales at Less Than Fair Value: Stainless Steel Plate in Coils From the Republic of Korea; and Stainless Steel Sheet and Strip in Coils From the Republic of Korea, 66 FR 45279, 45283 (Aug. 28, 2001).

Conclusion

The Department clarifies that the “Final Results of Reviews” section of the Final Sunset Notice inadvertently listed the weighted-average margin for POSCO and the “all others” rate for South Korea as 16.26 percent; however, the correct rate is 6.08 percent. The Department intends to notify the International Trade Commission of this correction to its determination.

We are issuing and publishing the results and notice in accordance with sections 751(c), 752(c), and 777(i)(1) of the Tariff Act of 1930, as amended.

Dated: October 27, 2010.
Ronald K. Lorentzen,
Deputy Assistant Secretary for Import Administration.

[FR Doc. 2010-27639 Filed 11-1-10; 8:45 am]

BILLING CODE 3510-DS-P